DEPARTMENT OF TRANSPORTATION

Federal Transit Administration

[Docket No. FTA-2007-29126]

Program Guidance for Metropolitan Planning Program and State Planning and Research Program Grants (49 U.S.C. 5305): Notice of Program Guidance

AGENCY: Federal Transit Administration (FTA), DOT.

ACTION: Availability of proposed program guidance and request for comments.

SUMMARY: This notice proposes guidance in the form of a revised program circular for the Federal Transit Administration's (FTA) planning programs. The proposed circular revises and combines into one document the contents of existing Circulars 8100.1B for the Metropolitan Planning Program (MPP) and 8200.1 the Statewide Planning and Research Program (SPRP). The proposed circular also provides information on the Consolidated Planning Grant Program between the FTA and the Federal Highway Administration (FHWA).

DATES: Comments should be submitted by October 29, 2007. Late-filed comments will be considered to the extent practicable.

ADDRESSES: To ensure your comments are not entered more than once into the docket, submit comments identified by the docket number [FTA-2007-29126] by only one of the following methods:

1. Web site: www.regulations.gov. Follow the instructions for submitting comments on the U.S. Government electronic docket site. [NOTE: The U.S. Department of Transportation's (DOT's) electronic docket is no longer accepting electronic comments. All electronic submissions must be made to the U.S. Government electronic docket site at www.regulations.gov. Commenters should follow the directions below for mailed and hand-delivered comments.]

2. Fax: 202-493-2251.

3. Mail: Docket Management Facility; U.S. Department of Transportation, 1200 New Jersey Ave., SE., W12-140, Washington, DC 20590-0001.

4. Hand Delivery: To the Docket Management System; U.S. Department of Transportation, Docket Operations, M-30, West Building Ground Floor, Room W12-140, 1200 New Jersey Ave., SE., Washington, DC 20590, between 9 a.m. and 5 p.m., Monday through Friday, except Federal holidays.

See the SUPPLEMENTARY INFORMATION section for detailed instructions on how to submit comments and access docket information.

FOR FURTHER INFORMATION CONTACT: Victor Austin, Office of Planning and Environment (TPE), Federal Transit Administration, 1200 New Jersey Ave., SE., Washington, DC 20590, phone: 202-366-2996, or e-mail, victor.austin@dot.gov. Legal questions may be addressed to Christopher Van Wyk, Office of Chief Counsel (TCC), Federal Transit Administration, U.S. Department of Transportation, 1200 New Jersey Ave., SE., Washington, DC 20590, phone: 202-366-1733, or e-mail christopher.vanwyk@dot.gov.

SUPPLEMENTARY INFORMATION:

Comment Instructions and Docket Access Information

Instructions: You must include the agency name (Federal Transit Administration) and Docket number (FTA-2007-29126) for this notice at the beginning of your comments. Submit two copies of your comments if you submit them by mail. Due to security procedures in effect since October 2001 regarding mail deliveries, mail received through the U.S. Postal Service may be subject to delays. Parties making submissions responsive to this notice should consider using an express mail firm to ensure the prompt filing of any submissions not filed electronically or by hand. For confirmation that FTA has received your comments, include a self-addressed stamped postcard. Note that all comments received, including any personal information, will be available to Internet users and will be posted without change to www.regulations.gov. You may review DOT's complete Privacy Act Statement in the Federal Register (65 FR 19477, April 11, 2000).

Docket: For access to the docket to read background documents and comments received, go to www.regulations.gov at any time or to the U.S. Department of Transportation, 1200 New Jersey Ave., SE., Docket Operations, M-30, West Building Ground Floor, Room W12-140, Washington, DC 20590 between 9 a.m. and 5 p.m., Monday through Friday, except Federal holidays.

This proposed circular revises existing Circular 8100.1B, “Program Guidance and Application Instructions for Metropolitan Planning Program Grants,” dated October 25, 1996. FTA proposes to revoke Circular 8200.1, “Program Guidance and Application Instructions for State Planning and Research Program Grants,” dated December 27, 2001, and place the updated content from this document, along with the updated content from the Metropolitan Planning Program (MPP), into the revised Proposed Circular 8100.1C, which will be renamed as “Program Guidance for Metropolitan Planning and State Planning and Research Program Grants.”

Table of Contents

I. Overview

II. Chapter-by-Chapter Analysis

A. Chapter I—Introduction and Background

B. Chapter II—Metropolitan Planning Program

C. Chapter III—State Planning and Research Program

D. Chapter IV—Consolidated Planning Grants (CPG)

E. Chapter V—Application Instructions

F. Appendices

I. Overview

The Safe, Accountable, Flexible, Efficient Transportation Equity Act: A Legacy for Users (SAFETEA-LU) (Pub. L. 109-59, August 10, 2005) updated Chapter 53 of Title 49 of the United States Code incorporating new requirements for metropolitan and statewide transportation planning (49 U.S.C. 5303 and 5304). On February 14, 2007, FTA and the Federal Highway Administration (FHWA) published a Federal Register notice announcing a final rule, “Statewide Transportation Planning; Metropolitan Transportation Planning,” (72 FR 7224, February 14, 2007) which updated 23 CFR parts 450 and 500 and 49 CFR part 613 to include new provisions required by SAFETEA-LU.

Over the past two years, FTA and FHWA worked cooperatively to prepare a new joint regulation on Metropolitan Transportation Planning and Statewide Transportation Planning which governs the work performed under the Metropolitan Planning Program (MPP) at 23 CFR part 450 and the State Planning and Research Program (SPRP) at 23 CFR part 420 (adopted by FTA at 49 CFR part 613). The final rule was published in the Federal Register February 14, 2007, and provides the procedural basis for fully implementing the planning provisions set forth in legislation and makes the Metropolitan Transportation Planning and Statewide Transportation Planning regulations consistent with current statutory requirements.

The rulemaking process included extensive public outreach conducted jointly by FTA and FHWA. This involved preparation of a Notice of Proposed Rulemaking and a 90-day comment period during which 1600 individual comments were received. This outreach was supported by six public outreach sessions, two national telecasts on the Internet, and a series of “tag-on” informational sessions with various transportation stakeholder association events, including the Association of State Highway and Transportation Officials (AASHTO), American Public Transportation Association (APTA), the National Association of Regional Councils (NARC), the Association of MPO's (AMPO), and State DOTs.

While SAFETEA-LU made a number of changes to the requirements for metropolitan and statewide transportation planning, the legislation did not make substantive changes to the eligibility and grant-award aspects of the Metropolitan Planning Program (MPP). SAFETEA-LU did change the funding eligibility of the State Planning and Research Program (SPRP) to include only funds from Sections 5304, 5306, 5315, and 5322. Therefore funding activities under Sections 5312 and 5317, allowable under the previous legislation for SPRP, are no longer eligible activities.

Another notable change that SAFETEA-LU made to the MPP and SPRP was unifying both programs under the same chapter, 49 U.S.C. 5305. Before SAFETEA-LU, program eligibility and criteria for the MPP could be found in 49 U.S.C. 5303(g) while program eligibility and criteria for the SPRP was found in 49 U.S.C. 5313(b). Additionally, SAFETEA-LU restricted the use of planning funds, under both the MPP and SPRP, to the States, the District of Columbia, and Puerto Rico and places responsibilities for such funds to these entities.

The proposed circular adds information on the Consolidated Planning Grants (CPG) Program, a program administered by FTA and FHWA. This program allows FTA and FHWA metropolitan and statewide planning funds to be combined into a single consolidated grant. This program fosters a cooperative effort between the Federal agencies and the participating States to streamline the delivery of their planning programs providing the flexibility to transfer the planning funds to either FTA or FHWA for processing. Under CPGs, only one Federal agency, either FTA or FHWA, will administer grants.

FTA reserves the right to make changes to this circular in the future to update references to requirements contained in other revised or new guidance and regulations without further notice and comment on this circular.

II. Chapter-by-Chapter Analysis

A. Chapter I—Introduction and Background

This introductory chapter is a general introduction to FTA that is proposed to be included in all the new and revised program circulars for the orientation of readers new to FTA programs. Chapter I also includes definitions and a history of FTA's planning programs.

B. Chapter II—Metropolitan Planning Program

This chapter replaces the former Chapter II, “Eligibility,” in Circular 8100.1B and consolidates Chapter I “General Overview,” Chapter II “Eligibility,” Chapter III “Metropolitan Planning and Assistance: Formula and Notification,” Chapter IV “Unified Planning Work Program,” Chapter V “Application Instructions,” Chapter VII “Grant Agreement,” and Chapter VIII “State Management” of the existing Circular 8100.1B, with minor updates. This chapter provides an overview of the entire MPP in terms of its statutory authority and program goals. It defines the role of FTA and the individual States, explains the program's relationship to other FTA-funded programs, provides information on eligible planning activities, and offers detailed required steps for preparing a Unified Planning Work Program (UPWP).

C. Chapter III—Statewide Planning and Research Program

This chapter replaces the former Chapter III, “Metropolitan Planning and Assistance: Formula and Notification,” in Circular 8100.1B. This chapter consists of information found in Chapter II “State Planning and Research: Formula and Notification,” Chapter IV “State Planning,” Chapter VI “Training Activities,” and Chapter VIII “Human Resource Activities” of existing Circular 8200.1, with minor updates. It provides an overview of the SPRP in terms of its statutory authority and program goals. It defines the role of FTA and the individual States, and explains the program's relationship to other FTA-funded programs, as well as its coordination with other Federal programs.

D. Chapter IV—Consolidated Planning Grants (CPG)

This chapter replaces the former Chapter IV, “Unified Planning Work Program,” in Circular 8100.1B. This chapter provides information on the Consolidated Planning Grant (CPG) Program.

E. Chapter V—Application Instructions

This chapter updates Chapter V, “Application Instructions,” and Chapter VI, “Certifications and Assurances,” in Circular 8100.1B and merges them into one chapter. While providing minor updates to information on the MPP, this chapter also incorporates relevant information, with minor updates, from Chapter III “Application Instructions,” of existing Circular 8200.1. This section details the application process for both MPP and SPRP grants. This section also discusses the certifications and assurances and its location within FTA's Transportation Electronic Award and Management (TEAM) system, a streamlined electronic interface among grant applicants, recipients, and FTA that allows complete electronic grant application submission, review, approval, and management of all grants.

F. Appendices

Appendices A-C of Circular 8100.1B have been relabeled and reorganized. FTA is also adding an index of common terms used throughout the circular following Appendix C. The new Appendix A contains an outline of a Unified Planning Work Program document and replaces the former Definitions section which has been moved to Chapter I. Appendix B is a revised “MPP Sample Project Budget” that was found in Appendix B of Circular 8100.1B, as well as a revised “SPRP Sample Project Budget,” that was formerly located in Appendix B of Circular 8200.1. Appendix C contains references to other documents relevant to the planning programs.

Issued in Washington, DC, this 24th day of September, 2007.
James S. Simpson,
Administrator.

[FR Doc. E7-19113 Filed 9-27-07; 8:45 am]

BILLING CODE 4910-57-P